DEPARTMENT OF COMMERCE

United States Patent and Trademark Office

[Docket No. PTO-P-2015-0031]

Extension of the Period for Comments on Enhancing Patent Quality

AGENCY: United States Patent and Trademark Office, Commerce.

ACTION: Extension of the comment period.

SUMMARY: The United States Patent and Trademark Office (USPTO) recently launched a comprehensive and enhanced quality initiative. This initiative began with a request for public comments on a set of proposals for enhancing patent quality through submission of written comments. Public input on this initiative was also received through discussion at a two-day “Quality Summit,” held on March 25 and 26, 2015, at the USPTO headquarters in Alexandria, Virginia. The USPTO is extending the comment period to ensure that all stakeholders have sufficient opportunity to submit comments on its new enhanced quality initiative.

DATES: To be assured of consideration, written comments must be received on or before May 20, 2015.

ADDRESSES: Written comments should be sent by electronic mail message over the Internet addressed to: WorldClassPatentQuality@uspto.gov. Comments may also be submitted by postal mail addressed to: Mail Stop Comments—Patents, Commissioner for Patents, P.O. Box 1450, Alexandria, Virginia 22313-1450, marked to the attention of Michael Cygan, Senior Legal Advisor, Office of Patent Legal Administration, Office of the Deputy Commissioner for Patent Examination Policy.

Although comments may be submitted by postal mail, the USPTO prefers to receive comments by electronic mail message over the Internet in order to facilitate sharing the received comments with the public. Electronic comments are preferred to be submitted in plain text, but also may be submitted in ADOBE® portable document format or MICROSOFT® WORD format. Comments not submitted electronically should be submitted on paper in a format that facilitates convenient digital scanning into ADOBE® portable document format.

The comments will be available for public inspection at the Office of the Commissioner for Patents, currently located in Madison East, Tenth Floor, 600 Dulany Street, Alexandria, Virginia. Comments also will be available for viewing via the USPTO's Internet Web site (http://www.uspto.gov/patent/initiatives/enhanced-patent-quality-initiative.html). Because comments will be made available for public inspection, information that the submitter does not desire to make public, such as an address or phone number, should not be included in the comments. It would be helpful to the USPTO if written comments included information about: (1) The name and affiliation of the individual responding; and (2) an indication of whether comments offered represent views of the respondent's organization or are the respondent's personal views.

FOR FURTHER INFORMATION CONTACT: Michael T. Cygan, Senior Legal Advisor, at (571) 272-7700; Maria Nuzzolillo, Legal Advisor, at (571) 272-8150; or Jeffrey R. West, Legal Advisor, at (571) 272-2226.

SUPPLEMENTARY INFORMATION: The USPTO is extending the period for public comment on its Enhanced Patent Quality Initiative. The USPTO launched a comprehensive and enhanced quality initiative beginning with a request for public comments on a set of six proposals outlined in a Federal Register Notice, Request for Comments on Enhancing Patent Quality, 80 FR 6475 (Feb. 5, 2015). The new enhanced quality initiative continued with a two-day “Quality Summit” with the public to discuss the outlined proposals, which was held on March 25 and 26, 2015, at the USPTO headquarters in Alexandria, Virginia.

In view of the substantial public interest in this initiative, the number and complexity of the issues involved, and requests from the public for an extension of the time to submit comments, the USPTO is now extending the period for submission of public comments until May 20, 2015.

Members of the public are invited to submit written comments that address the proposals outlined in the February 5, 2015, Federal Register Notice or that provide input on other programs or initiatives not reflected in the proposals that the public believes may enhance patent quality. Based upon the stakeholder feedback received, the USPTO plans to refine the proposals as needed and to continue its engagement with the public about these proposals through a series of additional events. Through such continued engagement with the public, the USPTO can take the correct next steps in its continued efforts toward enhancing patent quality.

Dated: May 5, 2015.
Michelle K. Lee,
Under Secretary of Commerce for Intellectual Property and Director of the United States Patent and Trademark Office.

[FR Doc. 2015-11318 Filed 5-8-15; 8:45 am]

BILLING CODE 3510-16-P